DEPARTMENT OF HEALTH AND HUMAN SERVICES

Office of the Secretary

Office of Assistant Secretary for Administration and Management, Statement of Organization, Functions, and Delegations of Authority

Part A, Office of the Secretary, Statement of Organization, Functions and Delegations of Authority for the Department of Health and Human Services (HHS) is being amended at Chapter AJ, “Office of the Assistant Secretary for Administration and Management (OASAM),” as last amended at 70 FR 17690-1769, dated April 7, 2005. This amendment is to realign the human resources and acquisition functions and to establish a component for travel policy within ASAM. The changes are as follows:

I. Under Chapter AJ, “Office of the Assistant Secretary for Administration and Management,” Section AJ.10 “Organization,” delete in its entirety and replace with the following:

Section AJ.10 Organization: The Office of the Assistant Secretary for Administration and Management is under the direction of the Assistant Secretary for Administration and Management, who reports to the Secretary and consists of the following components:

• Immediate Office (AJ)

• SW Complex Security Team (AJ1)

• Office of Human Resources (AJA)

• OS Executive Office (AJC)

• Office for Facilities Management and Policy (AJE)

• Office of Acquisition Management and Policy (AJG)

• Office of Small and Disadvantaged Business Utilization (AJH)

• Office of Diversity Management & Equal Employment Opportunity (AJI)

• Office of Business Transformation (AJJ)

• Program Support Center (P)

II. Under Section AJ.20 Functions, make the following changes:

A. Under AJ.20, Paragraph C, “Office of Human Resources (AJA),” delete in its entirety and replace with the following:

C. Office of Human Resources

Section AJA.00 Mission. The Office of Human Resources (OHR) provides leadership in the planning and development of personnel policies and human resource programs that support and enhance the Department's mission. Provides technical assistance to the Operating Divisions (OPDIVs) in building the capacity to evaluate the effectiveness of their human resource programs and policies. Serves as the Departmental liaison to central management agencies on topics relating to human resources matters. Provides Department wide leadership for reorganization and delegation of authority, and other management programs.

Section AJA.10 Organization. The Office of Human Resources (OHR) is headed by a Deputy Assistant Secretary for Human Resources who reports to the Assistant Secretary for Management and Administration, and consists of the following components:

• Immediate Office (AJA)

• Personnel Programs and Policy Division (AJA1)

• Executive Resources Division (AJA3)

• Performance Management Division (AJA4)

• Division of Workforce and Career Development (AJA5)

• Labor and Employee Relations Division (AJA6)

• Personnel Systems Division (AJA7)

• Human Resources Center (PJ1, PJ2, PJ4)

Section AJA.20 Functions.

1. The Immediate Office (AJA): The Immediate Office provides leadership to the development and assessment of the Department's human resources programs and policies. In coordination with the Operating Divisions, designs human resource programs that support and enhance the HHS missions. Provides technical assistance to the OPDIVs in building the capacity to evaluate the effectiveness of their human resource programs and policies, including the development of performance standards. Serves as the principal source of advice on all aspects of Department-wide organizational analysis including: Planning for new organizational elements; evaluating current organizational structures for effectiveness; and conducting the review process for reorganization proposals; manages the reorganization process for the Office of the Secretary (OS) requiring the Secretary's signature and the Assistant Secretary for Administration and Management; administers the Department's system for review, approval and documentation of delegations of authority; develops Department-wide policy and provides technical assistance on the use and application of delegations of authority; advises senior officials within the Department on delegations of authority, coordinates review of proposed delegations requiring the Secretary's or other senior officials' approval; analyzes and makes recommendations related to legislative proposals with potential impact upon the Department's organizational structure or managerial procedures; manages the Departmental Standard Administrative Code (SAC) system, providing oversight, advice, and assistance to ensure codes are in accord with the current approved organization; and provides special management review services for selected activities.

2. Personnel Programs and Policy Division (AJA1): The Personnel Programs and Policy Division (PPPD): (a) Provides leadership to the planning and development of personnel policies and programs that support and enhance the Department's mission; (b) in coordination with the OPDIVs, formulates HHS policies pertaining to employment, compensation, position classification, and employee benefits; and (c) provides technical assistance to the OPDIVs in the proper application of Federal personnel laws, regulations, and policies.

3. Executive Resources Division (AJA3): The Executive Resources Division (ERD): (a) Is responsible for the development, coordination, policy formulation and administration of the Department's Executive Resources Management program, excluding those functions associated with executive development; (b) serve as the central point of contact for executive resources operational matters, advising on a broad range of executive personnel management matters; (c) administer most aspects of the Senior Executive Service (SES) program and coordinating analytical studies impacting on executive personnel; (d) provide support as required to the Executive Secretary of the Executive Resources Board; (e) manage the SES control and allocation program, provides recruitment assistance when needed, and provide leadership and oversee the executive staffing; (f) review key position cases, expert and consultant appointment, Section 209(f) of Title 42, and other employment cases requiring Departmental approval; and (g) maintain Schedule C appointment control and principal position information listing.

4. Performance Management Division (AJA4): The Performance Management Division (PMD), is responsible for the following activities related to performance management: (1) plan and develop personnel policies and programs; (2) formulate and implement policies; and (3) provide technical assistance to the OPDIV in these areas.

5. Division of Workforce and Career Development (AJA5): The Division of Workforce and Career Development (DWCD) responsibilities include requirements (i.e., 5 USC 4103 and 4121) mandated under the Federal Workforce Flexibility Act of 2004: (a) Formulate policies, regulations and procedures to evaluate and modify training programs and plans to promote a strategic approach to Departmental integration of training programs into overall mission accomplishment; and to ensure that they accomplish and effectively promote the Department's specific performance plans and strategic goals; (b) formulate, implement, evaluate and measure employee development activities as part of a comprehensive management succession program; (c) formulate and oversee the implementation of Department-wide policies, regulations, and procedures pertaining to training management, career development, career education and career mobility for all executive and non-executive employees; (d) serve as the central HHS reference point for inquiries, guidance, interpretation and program monitoring and evaluation for training and workforce development planning; (e) develop new and enhance existing Department-wide training program (e.g., Emerging Leaders Programs, Senior Executive Service Candidate Development Program, etc.) and review and approve training programs proposed by OPDIVs, STAFFDIVs, or Human Resources Centers; (f) serve as the central HHS contact point and representative to non-government and government training communities and their auditors; e.g., Office of Personnel Management, General Accounting Office, and the Office of Management and Budget; and (g) monitor the implementation of a Department-wide automated training program and establishes reporting requirements, evaluation methods and measures.

6. Labor and Employee Relations Division (AJA6): The Labor and Employee Relations Division (LERD): (a) Promote labor-management cooperation and promulgate labor-management relations policy and programs for the Department; (b) provider leadership, involvement, and training; (c) provide guidance and support for conducting labor-management negotiations; (d) review negotiated agreement(s) or supplemental agreement(s) in accordance with the Federal Service Labor-Management Relations Statutes requirements; (e) review local agreements and settlement agreement for compliance with applicable labor relations policy and collective bargaining agreements; (f) serve as the Department's focal point for liaison on personnel and labor relations issues with the Office of Personnel Management, the General Accounting Office, the Merit Systems Protection Board, and the Federal Labor Relations Authority; (g) develop, implement and interpret Departmental and Government-wide employee relations policy; (h) provides technical advice and assistance on employee relations issues to OPDIVs; (i) plan and develop personnel policies and programs related to benefits, and the Benefit Officer serves as expert in providing technical assistance to OPDIVs and STAFFDIVs.

7. Personnel Accountability Systems Division (AJA7): The Personnel Accountability Systems Division (PASD): (a) Promote and supports OPDIV capacity building efforts, including innovative approaches to personnel management; (b) provide strategic advice to the Deputy Assistant Secretary for Human Resources, the Assistant Secretary for Administration and Management, and the Secretary on those initiatives having major workforce implications; (c) responsible for overseeing the planning, implementing and initial operations of the Department's human resources management data and information management system; (d) plan, coordinate and monitor major personnel policies and programs for the Department and for evaluating the effectiveness of human resources management in the Department; (e) is responsible for the Department's human resources accountability system; (f) have responsibility for planning policy and programs, including strategic planning (and the development of the Department's Human Capital Management Strategic Plan); and, (g) plan and coordinate the human capital portion of the Department's Government Performance and Results Acts strategic plan.

B. Under Section AJ.20 Functions; Paragraph G, “Office of Acquisition Management and Policy (AJG),” delete in its entirety and replace with the following:

Section AJG.00 Mission: The Office of Acquisition Management and Policy (OAMP) provides management direction of the acquisition system including logistics, and provides similar direction for travel. Provides Department-wide leadership in these areas through policy development, performance measurement, and training. Represents the Department in dealings with OMB, GAO and other Federal agencies and Congress in the areas of procurement, logistics, and travel. Fosters creativity and innovation in the administration of these functions throughout the Department.

Section AJG.10 Organization. The Office of Acquisition Management and Policy (OAMP), headed by a Deputy Assistant Secretary for Acquisition Management and Policy, who is the Senior Procurement Executive appointed pursuant to 41 U.S.C. 414(3) section 16(3), reports to the Assistant Secretary for Administration and Management, consists of the following components:

• Immediate Office (AJG)

• Division of Acquisition Policy (AJG1)

• Division of Logistics Policy (AJG2)

• Division of Travel Program and Policy (AJG3)

Section AJG.20 Functions.

1. Immediate Office of Acquisition Management and Policy (AJG). The Immediate Office of Acquisition Management and Policy provides leadership, policy, guidance and supervision, as well as coordinating long and short-range planning to constituent organizations. Also, provides technical assistance to the Operating Divisions and evaluates effectiveness of their acquisition, logistics, and small business programs, including the development of performance standards. Manages special departmental procurement initiatives and operations of the Program Support Center's Strategic Acquisition Service.

2. Division of Acquisition Policy (AJG1). The Office of Acquisition Policy provides leadership in the area of acquisition through policy development, performance measurement and training. The office is responsible for the following: (a) Formulates Department-wide acquisition policies governing procurement activities, publishes these in regulations and manuals, and recommends and participates in development of government-wide acquisition policy; (b) provides advice and technical assistance on matters related to HHS acquisition programs and other special authorities such as authority to conduct “Other Transactions”; (c) manages workforce development issues for the department's acquisition workforce including certification and warranting of contracting officers; (d) monitors the adoption of acquisition policies by the Department's Operating and Staff Divisions to ensure consistent policy interpretation and application, and provides standards for departmental staff assigned contract management responsibilities; (e) conducts Performance Measurement of the Department's procurement system to ensure compliance with procurement laws and policies and efficient acquisition of the Department's program needs; (f) makes studies of problems requiring creation of new policies or revision of current policies, including the application of Departmental management controls and reports related to the Department's procurement activities, resolves issues arising from implementation of those policies; maintains similar relationships and associations with public and private contractor organizations; (h) serves as the Department's liaison in the area of acquisitions and maintains working relationships with OMB, GSA, GAO, and other Federal agencies to coordinate and assist in the development of policy and to participate in government-wide tests of procurement innovations; (i) conducts special projects to develop improved mechanisms for Department-wide management of procurement, researches, analyzes and tests innovative ideas, techniques and policies in the area of acquisitions, establishes and directs ad hoc teams to work on special projects to develop creative approaches to problems in the area of acquisition; and (j) supports the Chief Acquisition Officer in implementing Section 1421 of the Services Acquisition Reform Act of 2003.

3. Division of Logistics Policy (AJG2). The Division of Logistics Policy (DLP) provides leadership focal point and liaison with the Operating and Staff Divisions in the area of logistics assets (personal property, supply chain, fleet, transportation) function through policy development, technical assistance, oversight and workforce development. The Division is responsible for the following: (a) Formulates Department-wide logistics policies governing the management of assets (personal property, supply chain, fleet, transportation); publishes these in manuals, guides and on the web, and recommends and participates in the development of Government-wide logistics policy; (b) monitors the adoption of logistics policies by the Department's Operating Divisions to ensure consistent policy interpretation and application; and provides advice and technical assistance on matters related to HHS logistics programs; (d) manages workforce development issues for the Department's logistics workforce including certification of logisticians; (e) conducts performance measurement of the Department's logistics system to ensure compliance with laws and policies and efficient management of Department's logistics needs; (f) studies, researches, analyzes and tests innovative ideas, techniques and policies in the area of logistics; and (g) sees the implementation of logistics functions throughout the Department; (d) develops, participates in and evaluates logistics training programs for Department staff; (e) researches, analyzes and tests innovative ideas, techniques and policies in the area of logistics; (f) serves as the Department's liaison in the area of logistics and maintains working relationships with OMB, GAO and other Federal agencies to coordinate and assist in the development of policy, and to participate in Government-wide projects of logistics innovations; (h) manages web-based knowledge management and performance support system, including Federal and Departmental management information system to support the HHS, ASAM and OAMP's mission.

4. Division of Travel Program and Policy (AJG3): The Division of Travel Program and Policy (DTTP): (a) Formulate Department-wide travel policies governing travel activities; publishes travel regulations and manuals; and recommends and participates in development of government-wide travel; (b) provide advice and technical assistance on travel activities and policy matters to the Department's Operating Divisions; and (c) monitors the adoption of travel policies by the Department's Operating Divisions to ensure consistent policy interpretation and application; and (d) oversees the implementation of travel function throughout the Department; (e) develops, participates in and evaluates travel training programs for Department staff; (f) and serves as the Department's liaison in the area of travel and maintains working relationships with OMB, GAO and other Federal agencies to coordinate and assist in the development of travel policy.

C. Under Section AJ.20 Functions, add the following new Paragraphs:

1. Office of Diversity Management and Equal Employment Opportunity (AJI)

Section AJI.00 Mission. The mission of the Office of Diversity Management and Equal Employment Opportunity (ODMEEO) is to provide leadership in creating and sustaining a diverse workforce and an environment free of discrimination at the Department of Health and Human Services. ODMEEO works pro-actively to enhance the employment of women, minorities, veterans, and people with disabilities. This is achieved through policy development, oversight, complaints prevention, outreach, and education and training programs. Provides resource management and equal opportunity services function for the Department.

Section AJI.10 Organization. The Office of Diversity Management and Equal Employment Opportunity (ODMEEO) is headed by a Director for ODMEEO, who reports directly to the Assistant Secretary for Administration and Management, and consists of the following components:

• Diversity Management Division (AJI1)

• Equal Employment Opportunity (EEO) Programs Division (AJI2)

Section AJI.20 Functions.

1. Diversity Management Division (AJI1)—The Diversity Management Division (DMD): (a) Provides leadership in the planning and development of affirmative employment policies and programs that recognize and value the diversity of the Department workforce and promote a work place free of discrimination; (b) provides technical assistance and enabling tools to the OPDIVs in the design of innovative, effective affirmative employment programs; and (c) keeps top HHS officials apprised of workforce demographics and recommends positive interventions as needed.

2. Equal Employment Opportunity Programs Division (AJI2). The Equal Employment Opportunity Programs Division (EEOPD): (a) Prepares, for the Director of Equal Employment Opportunity (EEO), final Departmental decisions on the merits of complaints of discrimination; (b) process conflict of interest complaints and prepare decisions on the merits for issuance by the EEO Director; (d) prepares final Departmental decisions on the merits for the signature of the Surgeon General regarding complaints of discrimination filed by members of the Commissioned Corps; (e) provides technical assistance and enabling tools to the OPDIVs in the design of innovative, effective affirmative employment programs and complaints management and prevention; and (f) serves as the Department's focal point for liaison with the Office of Personnel Management, the Equal Employment Opportunity Commission, and the General Accounting Office on issues pertaining to affirmative employment and discrimination complaints.

J. Office of Business Transformation (AJJ)

Section AJJ.00 Mission. The Office of Business Transformation (OBT) provides results-oriented strategic and analytical support for key management initiatives and coordinates with others the business mechanisms necessary to account for the performance of these initiatives and other objectives as deemed appropriate. OBT also oversees the implementation of competitive sourcing activities Department-wide, as a tool to generate savings and improve efficiencies. The OBT will also be responsible for integrating the work performed by ASAM in the areas of business process reengineering, core business mission activities, responsibility and investment matters as determined by ASAM.

Section AJJ.10 Organization. The Office of Business Transformation (OBT), headed by a Deputy Assistant Secretary who reports directly to the Assistant Secretary for Administration and Management consists of the following components:

• Division of Strategic Initiatives (AJJ1)

• Division of Competitive Sourcing (AJJ2)

Section AJJ.20 Functions.

1. Division of Strategic Initiatives (AJ). Division of Strategic Initiatives (DSI): (a) Provides coordination and management support to ASAM as appropriate for all HHS management initiatives through active involvement in the process and related activities necessary to the successful accomplishment of same; (b) performs management and administrative analysis for a variety of management initiatives, either proposed or ongoing, to improve management effectiveness and gain management efficiencies on a Department-wide basis; (c) develops policy and guidelines to promulgate these initiatives to the extent determined necessary; and (d) work collaboratively with STAFFDIVs, especially the Office of the Assistant Secretary for Planning and Evaluation and the Office of Budget, Technology and Finance, in formulating the process of for developing the annual Department-wide Objectives.

2. Division of Competitive Sourcing (AJJ2). Division of Competitive Sourcing (DCS): (a) Provides Department-wide leadership, centralized oversight and coordination of competitive sourcing activities; (b) develops policy and issues guidelines relating to competitive sourcing; and (c) represents the Department in dealings with OMB, GAO and other Federal agencies in the area of competitive sourcing.

III. Continuation of Policy: Except as inconsistent with this reorganization, all statements of policy and interpretations with respect to the Office of the Secretary, the Assistant Secretary for Administration and Management heretofore issued and in effect on this date of this reorganization are continued in full force and effect.

IV. Delegations of Authority: All delegations and redelegations of authority made to officials and employees of affected organizational components will continue in them or their successors pending further redelegation, provided they are consistent with this reorganization.

V. Funds, Personnel and Equipment: Transfer of organizations and functions affected by this reorganization shall be accompanied in each instance by direct and support funds, positions, personnel, records, equipment, supplies and other resources.

Dated: April 26, 2006.
Joe Ellis,
Assistant Secretary for Administration and Management.

[FR Doc. 06-4346 Filed 5-9-06; 8:45 am]

BILLING CODE 4150-04-M